DEPARTMENT OF TRANSPORTATION

Federal Aviation Administration

Notice of Opportunity for Public Comment on Surplus Property Release at Augusta—Daniel Field, Augusta, GA

AGENCY: Federal Aviation Administration (FAA), DOT.

ACTION: Notice.

SUMMARY: Under the provisions of Title 49, U.S.C. Section 47153(c), notice is being given that the FAA is considering a request from the General Aviation Commission and Augusta—Daniel Field to waive the requirement that 97,217 square feet of surplus property, located at Augusta—Daniel Field, be used for aeronautical purposes.

DATES: Comments must be received on or before March 23, 2007.

ADDRESSES: Comments on this notice may be mailed or delivered in triplicate to the FAA at the following address: Atlanta Airports District Office, Attn: Aimee A. McCormick, Program Manager, 1701 Columbia Ave., Campus Bldg., Suite 2-260, Atlanta, GA 30337-2747.

In addition, one copy of any comments submitted to the FAA must be mailed or delivered to Mr. Buster Boshears, Executive Director, Augusta—Daniel Field at the following address: 1775 Highland Ave., Augusta, GA 30904.

FOR FURTHER INFORMATION CONTACT: Aimee McCormick, Program Manager, Atlanta Airports District Office, 1701 Columbia Ave., Campus Bldg., Suite 2-260, Atlanta, GA 30337-2747, (404) 305-7143. The application may be reviewed in person at this same location.

SUPPLEMENTARY INFORMATION: The FAA is reviewing a request by the General Aviation Commission and the Augusta—Daniel Field to release 97,217 square feet of surplus property at Augusta—Daniel Field. The proper will be purchased as a permanent easement to construct a 36-inch water main. The net proceeds from the sale of this property will be used for airport purposes. The proposed use of this property is compatible with airport operations.

Any person may inspect the request in person at the FAA office listed above under FOR FURTHER INFORMATION CONTACT. In addition, any person may, upon request, inspect the request, notice and other documents germane to the request in person at the General Aviation Commission and the Augusta—Daniel Field.

Issued in Atlanta, Georgia on February 6, 2007.
Scott L. Seritt,
Manager, Atlanta Airports District Office, Southern Region.

[FR Doc. 07-778 Filed 2-20-07; 8:45 am]

BILLING CODE 4910-13-M